DEPARTMENT OF LABOR

Employment and Training Administration

[TA-W-37,144]

AlliedSignal, Mishawaka, Indiana; Notice of Revised Determination on Reopening

On February 8, 2000, the Department, at the request of the company, reopened its investigation for workers and former workers of the subject firm. The workers were engaged in the manufacture of guided missile targets.

The initial investigation resulted in a negative determination issued on January 31, 2000, because the investigation revealed that the company's primary customer was not purchasing imported missile targets which were like or directly competitive with those manufactured by the subject firm. The notice soon will be published in the Register.

New information provided by the company and the primary customer of the subject firm revealed that the customer is purchasing imported guided missile targets which are like those previously manufactured at the Mishawaka, Indiana facility.

Conclusion

After careful consideration of the new facts obtained on reopening, it is concluded that increased imports of articles like or directly competitive with guided missile targets produced by the subject firm contributed importantly to the decline in sales to the total or partial separation of workers of the subject firm. In accordance with the provisions of the Trade Act of 1974, I make the following revised determination.

All workers of AlliedSignal, located in Mishawaka, Indiana who become totally or partially separated from employment on or after November 17, 1998, are eligible to apply for adjustment assistance under Section 223 of the Trade Act of 1974.

Signed at Washington, DC this 8th day of February, 2000.
Grant D. Beale,
Program Manager, Division of Trade Adjustment Assistance.

[FR Doc. 00-4130 Filed 2-18-00; 8:45 am]

BILLING CODE 4510-30-M